DEPARTMENT OF HOUSING AND URBAN DEVELOPMENT

24 CFR Parts 91, 92, 570, and 982

[Docket No. FR-6144-N-02]

RIN 2506-AC50

HOME Investment Partnerships Program: Program Updates and Streamlining; Public Listening Sessions

AGENCY: Office of the Assistant Secretary for Community Planning and Development, Department of Housing and Urban Development (HUD).

ACTION: Notification of public listening sessions.

SUMMARY: HUD will host three, two-part virtual public listening sessions to allow interested persons an opportunity to learn about and provide comments on the “HOME Investment Partnerships Program: Program Updates and Streamlining” proposed rule. The Part 1 listening sessions will address the topics of community housing development organizations, maximum subsidy amounts, green building incentives, homebuyer housing, and community land trusts. The Part 2 listening sessions will address the topics of rental housing, tenant-based rental assistance, and tenant protections.

DATES: The Part 1 virtual public listening sessions will be held on the following dates and times (all listed times are eastern time):

1. Session 1: June 12, from 2:00 p.m. to 3:30 p.m.;

2. Session 2: June 17, from 2:00 p.m. to 3:30 p.m.; and

3. Session 3: June 25, from 2:00 p.m. to 3:30 p.m.

The Part 2 virtual public listening sessions will be held on the following dates and times:

1. Session 1: June 13, from 2:00 p.m. to 3:30 p.m.;

2. Session 2: June 18, from 2:00 p.m. to 3:30 p.m.; and

3. Session 3: June 26, from 2:00 p.m. to 3:30 p.m.

ADDRESSES: Department of Housing and Urban Development, 451 7th Street SW, Room 7160, Washington, DC 20410.

FOR FURTHER INFORMATION CONTACT: Virginia Sardone, Director, Office of Affordable Housing Programs, Office of Community Planning and Development, Department of Housing and Urban Development, 451 7th Street SW, Room 7160, Washington, DC 20410; telephone number (202) 402-4606 (this is not a toll-free number). HUD welcomes and is prepared to receive calls from individuals who are deaf or hard of hearing, as well as individuals with speech or communication disabilities. To learn more about how to make an accessible telephone call, please visit https://www.fcc.gov/consumers/guides/telecommunications-relay-service-trs.

SUPPLEMENTARY INFORMATION:

I. Background

On May 29, 2024, HUD published in the Federal Register a proposed rule entitled “HOME Investment Partnerships Program: Program Updates and Streamlining” (the HOME Program proposed rule), available at 89 FR 46618. To provide interested persons additional opportunity to learn about and comment on the HOME Program proposed rule, HUD is hosting three, two-part virtual public listening sessions that will focus on the HOME Program proposed rule. Each set of the virtual public listening sessions will be hosted via a video conferencing platform at the times detailed in the DATES section of this document. At the beginning of each virtual public listening session, HUD will deliver a summarized presentation of the details of the HOME Program proposed rule and then open the session up for verbal comment from attendees.

HUD's presentation delivered during each set of the virtual public listening sessions will detail the same information, so interested members of the public need only attend a single set of the listening sessions. Each virtual public listening session set will be delivered in two parts, with each part lasting one hour. The first part of each virtual public listening session (Part 1) will address the topics of community housing development organizations, maximum subsidy amounts, green building incentives, homebuyer housing, and community land trusts. The second part of each virtual public listening session (Part 2) will address the topics of rental housing, tenant-based rental assistance, and tenant protections.

II. Meeting Participation and Attendance

The virtual public listening sessions are open to the public. HUD encourages all interested parties to attend one set of a virtual public listening session. Attendees who provide verbal comments at a virtual public listening session will be limited to two minutes to provide their comment. Closed captioning will be available during all virtual public listening sessions.

III. Registration

To attend one of the virtual public listening session sets, interested persons should register for their preferred session(s) in advance at:

Part 1 Listening Sessions

Session 1: https://www.zoomgov.com/meeting/register/vJItce2pqT8sHYHOqpLUlS0qfEuaCDAWaXM

Session 2: https://www.zoomgov.com/meeting/register/vJIsf-6opjkoGrlQXKYbsVlnhpcUypvKxoc

Session 3: https://www.zoomgov.com/meeting/register/vJItd--qrzIvE6kHDTCGbbn-B8q4Cqkr4Sg

Part 2 Listening Sessions

Session 1: https://www.zoomgov.com/meeting/register/vJItcuGhqj8qHmGyHSmXGcNJN3mxk7P13r4

Session 2: https://www.zoomgov.com/meeting/register/vJIsf-6opjkoGrlQXKYbsVlnhpcUypvKxoc

Session 3: https://www.zoomgov.com/meeting/register/vJItf-mqqT4jEzuCRwXoBMA-_LJyvcCnqtE

After submitting the registration form, you will receive a registration confirmation with the meeting link and passcode needed to attend the selected virtual public listening session. The total number of attendees at each of the virtual public listening sessions will be limited to the maximum allowed by the video conferencing platform used.

IV. Public Comments

Attendees at each of the virtual public listening sessions will be invited to provide verbal comments regarding the HOME Program proposed rule; however, to ensure full and proper consideration of public comments, interested persons must submit their public comments as directed in the ADDRESSES section of the HOME Program proposed rule.

Maria Claudette Fernandez,
General Deputy Assistant Secretary for Community Planning and Development.

[FR Doc. 2024-13070 Filed 6-11-24; 11:15 am]

BILLING CODE 4210-67-P